DEPARTMENT OF TRANSPORTATION

Federal Aviation Administration

14 CFR Part 39

[Docket No. FAA-2005-22524; Directorate Identifier 2005-NM-135-AD; Amendment 39-14672; AD 2006-14-01]

RIN 2120-AA64

Airworthiness Directives; Airbus Model A330-200, A330-300, A340-200, and A340-300 Series Airplanes, and Model A340-541 and A340-642 Airplanes

AGENCY: Federal Aviation Administration (FAA), Department of Transportation (DOT).

ACTION: Final rule.

SUMMARY: The FAA is adopting a new airworthiness directive (AD) for certain Airbus Model A330-200, A330-300, A340-200, and A340-300 series airplanes, and Model A340-541 and A340-642 airplanes. This AD requires inspecting to determine if certain emergency escape slides/slide rafts (referred to as slide/rafts) are installed in certain crew/passenger doors; and, if so, performing a one-time inspection to determine if the electrical harnesses of the slide/rafts are properly routed, and rerouting the harnesses if necessary. This AD results from report that a slide/raft failed to deploy properly during a deployment test. We are issuing this AD to detect and correct improper routing of the electrical harnesses of certain slide/rafts, which could prevent proper deployment of the slide/rafts and delay evacuation of passengers and flightcrew during an emergency.

DATES: This AD becomes effective August 9, 2006.

The Director of the Federal Register approved the incorporation by reference of certain publications listed in the AD as of August 9, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Airbus Model A330-200, A330-300, A340-200, and A340-300 series airplanes, and Model A340-541 and A340-642 airplanes. That supplemental NPRM was published in the Federal Register on March 27, 2006 (71 FR 15073). That supplemental NPRM proposed to require inspecting to determine if certain emergency escape slides/slide rafts (referred to as slide/rafts) are installed in certain crew/passenger doors; and, if so, performing a one-time inspection to determine if the electrical harnesses of the slide/rafts are properly routed, and rerouting the harnesses if necessary.

Comments

We provided the public the opportunity to participate in the development of this AD. We have considered the single comment received.

Request for Clarification of Compliance Time

The Air Transport Association (ATA), on behalf of its member Northwest Airlines (NWA), requests that the compliance time be clarified. NWA asserts that some operators may have prior knowledge of airplanes having slide/rafts with affected part numbers before the release of this AD. NWA requests that the compliance time be clarified to ensure that operators having such prior knowledge have the full span of 1,700 flight hours specified by this AD to accomplish corrective actions on any affected airplane. Though NWA did not specifically make such a statement, it appears that NWA is concerned that such prior knowledge might require immediate grounding of some airplanes because of the “before further flight” clause of the NPRM.

We partially agree. For any AD, compliance times are mandated during which operators are responsible for accomplishing the requirements of an AD. For example, operators may perform an inspection or, as allowed by this AD, review the maintenance records to comply with the AD. “Compliance time” specifies a period of time during which operators may determine the best time to accomplish the inspection, and we have no knowledge of individual operator inspection or review schedules within the compliance time limits. However, we acknowledge the concern of NWA and have determined that, in this case, “before further flight” is not needed to ensure an acceptable level of safety, provided that corrective actions are accomplished within the specified compliance time. Therefore, we have revised paragraphs (f)(1)(ii) and (f)(2)(ii) of the AD to read “within 1,700 flight hours after the effective date of this AD.”

Conclusion

We have carefully reviewed the available data, including the comment received, and determined that air safety and the public interest require adopting the AD with the change described previously. We have determined that this change will neither increase the economic burden on any operator nor increase the scope of the AD.

Costs of Compliance

This AD will affect about 27 airplanes of U.S. registry. The required actions will take about 3 work hours per airplane, at an average labor rate of $65 per work hour. Based on these figures, the estimated cost of the AD for U.S. operators is $5,265 or $195 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-14-01 Airbus: Amendment 39-14672. Docket No. FAA-2005-22524; Directorate Identifier 2005-NM-135-AD.

Effective Date

(a) This AD becomes effective August 9, 2006.

Affected ADs

(b) None.

Applicability

(c) This AD applies to all Airbus Model A330-201, -202, -203, -223, -243, -301, -302, -303, -321, -322, -323, -341, -342, and -343 airplanes; Model A340-211, -212, -213, -311, -312, and -313 airplanes; and Model A340-541 and -642 airplanes; certificated in any category.

Unsafe Condition

(d) This AD results from a report that an emergency escape slide/slide raft (referred to hereafter as a “slide/raft”) failed to deploy properly during a deployment test. We are issuing this AD to detect and correct improper routing of the electrical harnesses of certain slide/rafts, which could prevent proper deployment of the slide/raft and delay evacuation of passengers and flightcrew during an emergency.

Compliance

(e) You are responsible for having the actions required by this AD performed within the compliance times specified, unless the actions have already been done.

Inspections and Corrective Actions

(f) Within 1,700 flight hours after the effective date of this AD: Inspect certain crew/passenger doors as required by paragraph (f)(1) or (f)(2), as applicable, of this AD to determine if slide/rafts having certain part numbers (P/Ns) are installed. A review of airplane maintenance records is acceptable in lieu of this inspection if the presence of the subject slide/rafts can be conclusively determined from that review.

(1) For Model A330-201, -202, -203, -223, -243, -301, -302, -303, -321, -322, -323, -341, -342, and -343 airplanes and Model A340-211, -212, -213, -311, -312, and -313 airplanes: On both right- and left-hand sides, inspect to determine the P/N of the slide/rafts of crew/passenger doors 1 and 4, and—only if it is a type 1 door—crew/passenger door 3. If crew/passenger door 3 is not a type 1 door, it is not subject to any requirement of this AD.

(i) If a slide/raft does not have P/N 7A1508-( ) or 7A1509-( ), no further action is required for that slide/raft by this paragraph.

(ii) If a slide/raft has P/N 7A1508-( ) or 7A1509-( ), within 1,700 flight hours after the effective date of this AD, perform a general visual inspection of the electrical harness of that slide/raft and reroute the harness, as applicable, in accordance with paragraphs 4.2 through 4.2.4 of Airbus All Operators Telex (AOT) A330-25A3272, Revision 02; or Airbus AOT A340-25A4259, Revision 02, both dated June 1, 2005, as applicable.

(2) For Model A340-541 and -642 airplanes: On both right- and left-hand sides, inspect to determine the P/N of the slide/rafts of crew/passenger doors 1 and 4.

(i) If a slide/raft does not have P/N 7A1508-( ), no further action is required for that slide/raft by this paragraph.

(ii) If a slide/raft has P/N 7A1508-( ), within 1,700 flight hours after the effective date of this AD, perform a general visual inspection of the electrical harness of that slide/raft and reroute the harness, as applicable, in accordance with paragraphs 4.2 through 4.2.4 of Airbus AOT A340-25A5091, Revision 02, dated June 1, 2005.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished According to Previous Issues of AOTs

(g) Actions accomplished before the effective date of this AD in accordance with the Airbus AOTs listed in Table 1 of this AD, as applicable, are considered acceptable for compliance with the corresponding actions specified in paragraph (f) of this AD.

Table 1.—Previous Issues of AOTs
Airbus AOT | Revision level | Date
A330-25A3272 ¹ | Original | March 17, 2005.
A330-25A3272-2005 ¹ | 01 | March 24, 2005.
A340-25A4259 ² | Original | March 17, 2005.
A340-25A4259-2005 ² | 01 | March 24, 2005.
A340-25A5091 ³ | Original | March 17, 2005.
A340-25A5091-2005 ³ | 01 | March 24, 2005.
¹ For Model A330-200 and -300 series airplanes.
² For Model A340-200 and -300 series airplanes.
³ For Model A340-541 and -642 airplanes.

Parts Installation

(h) After the effective date of this AD, no person may install any slide/raft having P/N 7A1508-( ) or 7A1509-( ) on any airplane unless the electrical harness of that slide/raft is determined to be properly routed in accordance with the requirements of this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) French airworthiness directive F-2005-077, dated May 11, 2005, also addresses the subject of this AD.

Material Incorporated by Reference

(k) You must use the service information specified in Table 2 of this AD, as applicable, to perform the actions that are required by this AD, unless the AD specifies otherwise.

Table 2.—Material Incorporated by Reference
Airbus All Operators Telex | Revision level | Date
A330-25A3272 | 02 | June 1, 2005.
A340-25A4259 | 02 | June 1, 2005.
A340-25A5091 | 02 | June 1, 2005.

The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 23, 2006.
Kalene C. Yanamura,
Acting Manager, Transport Airplane Directorate, Aircraft Certification Service.

[FR Doc. 06-5944 Filed 7-3-06; 8:45 am]

BILLING CODE 4910-13-P